DEPARTMENT OF TRANSPORTATION

Pipeline and Hazardous Materials Safety Administration

[Docket No. PHMSA-2025-0455]

Pipeline Safety: Request for Special Permit

AGENCY: Pipeline and Hazardous Materials Safety Administration (PHMSA); U.S. Department of Transportation (DOT).

ACTION: Notice.

SUMMARY: PHMSA is publishing this notice to solicit public comments on a request for special permit received from Rockies Express Pipeline, LLC (REX). The special permit request is seeking relief from compliance with certain requirements in the Federal pipeline safety regulations and to supersede and replace two existing waivers, Docket No. 2006-23998 and Docket No. 2022-0044. At the conclusion of the 30-day comment period, PHMSA will review the comments received from this notice as part of its evaluation to grant or deny the special permit request.

DATES: Submit any comments regarding this special permit request by March 11, 2026.

ADDRESSES: Comments should reference the docket number for this special permit request and may be submitted in the following ways:

• E-Gov Website: http://www.regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.regulations.gov.

Note: There is a privacy statement published on http://www.regulations.gov. Comments, including any personal information provided, are posted without changes or edits to http://www.regulations.gov.

Confidential Business Information: Confidential Business Information (CBI) is commercial or financial information that is both customarily and treated as private by its owner. Under the Freedom of Information Act (FOIA) (5 United States Code 552), CBI is exempt from public disclosure. If your comments responsive to this notice contain commercial or financial information that is customarily treated as private, that you treat as private, and that is relevant or responsive to this notice, it is important that you clearly designate the submitted comments as CBI. Pursuant to 49 Code of Federal Regulations (CFR) § 190.343, you may ask PHMSA to give confidential treatment to information you give to the agency by taking the following steps: (1) mark each page of the original document submission containing CBI as “Confidential;” (2) send PHMSA, along with the original document, a second copy of the original document with the CBI deleted; and (3) explain why the information you are submitting is CBI. Unless you are notified otherwise, PHMSA will treat such marked submissions as confidential under FOIA, and they will not be placed in the public docket of this notice. Submissions containing CBI should be sent to Jamie Huff, DOT, PHMSA-PHP-80, 1200 New Jersey Avenue SE, Washington, DC 20590-0001. Any commentary PHMSA receives that is not specifically designated as CBI will be placed in the public docket for this matter.

FOR FURTHER INFORMATION CONTACT:

General: Ms. Jamie Huff by telephone at 812-677-8809, or by email at jamie.huff@dot.gov.

Technical: Mr. Joshua Johnson by telephone at 816-329-3825, or by email at joshua.johnson@dot.gov.

SUPPLEMENTARY INFORMATION:

PHMSA received a special permit request from REX, a subsidiary of Tallgrass Energy, on July 18, 2025, seeking a waiver from the Federal pipeline safety regulations in 49 CFR 192.620(b)(2), (b)(4), (b)(7), (c)(1), (c)(2), (c)(3), (c)(4), (d)(6), (d)(7)(i), (d)(7)(ii), (d)(7)(iii), (d)(9), (d)(11)(ii)(a), and (d)(4)(v) and (d)(7)(iv)(B) to operate at an alternative maximum allowable operating pressure (AMAOP). The REX Pipeline was constructed under waiver Docket No. PHMSA-2006-23998 as an AMAOP pipeline before the AMAOP regulations under § 192.620 were promulgated. Another special permit under Docket No. PHMSA PHMSA-2022-0044 was later issued to allow for a waiver of class location change requirements under 49 CFR 192.611 for segments originally operated under the 2006 waiver; 49 CFR 192.620(c)(8) allows a Class 1 and Class 2 location to be upgraded one class due to class location changes. This special permit is proposed to supersede and replace both previous special permits to create a unified and consistent approach to pipeline safety, operations, and compliance by aligning the regulatory framework applicable to the REX Pipeline with existing Federal regulations.

The REX Pipeline segment is a 42-inch-diameter natural gas transmission pipeline, 2,866 miles in length from the Cheyenne Compressor Station in Weld County, Colorado, to the Clarington Hub in Monroe County, Ohio. The maximum allowable operating pressure for the REX Pipeline segment is 1,480 pounds per square inch gauge.

The special permit request, proposed special permit with conditions, and draft environmental assessment (DEA) for the above listed REX pipeline segment are available for review and public comment in Docket No. PHMSA-2025-0455. PHMSA invites interested persons to review and submit comments on the special permit request, proposed special permit with conditions, and DEA in the docket. Please submit comments on any potential safety, environmental, and other relevant considerations implicated by the special permit request. Comments may include relevant data.

Before issuing a decision on the special permit request, PHMSA will evaluate all comments received on or before the comments closing date. PHMSA will consider each relevant comment it receives in making its decision to grant or deny this special permit request.

Issued in Washington, DC, on February 4, 2026, under authority delegated in 49 CFR 1.97.
Linda Daugherty,
Acting Associate Administrator for Pipeline Safety.

[FR Doc. 2026-02476 Filed 2-6-26; 8:45 am]

BILLING CODE 4910-60-P